DEPARTMENT OF HOMELAND SECURITY

Federal Emergency Management Agency

44 CFR Part 67

[Docket ID FEMA-2014-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Effective Modified | Communities affected
Montgomery County, Texas, and Incorporated Areas
Docket No.: FEMA-B-1045 and B 1221
Alligator Creek Flooding Effects, its West Branch and its West Fork | At the confluence of West Fork of San Jacinto River and Alligator Creek | +133 | City of Conroe, Unincorporated Areas of Montgomery County.
| Approximately 375 feet upstream of Hillcrest Road | +195
| Approximately 650 feet upstream of Hillcrest Road | +215
| Just upstream of State Highway 336 and Alligator Creek | +238
Arnold Branch | Approximately 1.4 miles downstream of FM 1488 | +219 | Town of Magnolia.
| Approximately 1,475 feet upstream of FM 1488 | +246 |
Arnold Branch Flooding Effects | At the confluence of Mink Branch and Arnold Branch | +203 | Unincorporated Areas of Montgomery County.
| Approximately 800 feet downstream of Grand Oaks Boulevard | +214
| Approximately 2,100 feet upstream of Nichols Sawmill Road | +227
| Approximately 2.34 miles downstream of Doodson Road | +246
Bear Branch Flooding Effects. | Approximately 2,500 feet downstream of Sawdust Road | +117 | Unincorporated Areas of Montgomery County.
| Just downstream of Woodlands Parkway | +123
| At the confluence of Panther Branch and Bear Branch | +140
| Approximately 100 feet downstream from Kuykendahl Road | +157
Bee Branch Flooding Effects. | Approximately 1.1 miles upstream of the confluence with Jayhawker Creek and Bee Branch | +129 | Unincorporated Areas of Montgomery County.
| Just upstream of Fostoria Road | +142
Bens Branch | Approximately 620 feet downstream from the Loop 494 | +79 | Unincorporated Areas of Montgomery County.
| Just downstream of Loop 494 | +80
Brushy Creek Flooding Effects | At the confluence of Spring Creek and Brushy Creek | +187 | Unincorporated Areas of Montgomery County.
| Approximately 4,550 feet upstream from the confluence of Threemile Creek and Brushy Creek | +214
Camp Creek Flooding Effects and its Tributaries | Just upstream of Rogers Road | +306 | City of Willis, Unincorporated Areas of Montgomery County.
| Just upstream of African Hill Road | +337
Caney Creek Flooding Effects | At the confluence of Peach Creek and Caney Creek | +70 | City of Cut 'N Shoot, Unincorporated Areas of Montgomery County.
| At the confluence of McRae Creek and Caney Creek | +183
| Approximately 6,500 feet upstream of Bilnoski Road | +268
| Approximately 9,000 feet upstream of Mt. Zion Road | +282
| Approximately 15,500 feet upstream of confluence with Caney Creek | +285
Caney Creek North Flooding Effects | At the confluence of Caney Creek Tributary No. 4 and Caney Creek North | +202 | Unincorporated Areas of Montgomery County.
| At the confluence of Kelly Branch and Caney Creek North | +220
Carters Slough Flooding Effects | At the confluence of West Fork of San Jacinto River and Carters Slough | +108 | Unincorporated Areas of Montgomery County.
| Just upstream of unnamed Railroad and Carters Slough | +124
Crystal Creek Flooding Effects | At the confluence of West Fork of San Jacinto River and Crystal Creek | +109 | City of Conroe, City of Cut 'N Shoot, Unincorporated Areas of Montgomery County.
| At the confluence of West Fork of Crystal Creek and Crystal Creek | +143
| At the confluence of Crystal Creek Tributary No. 4 and Crystal Creek | +193
| At the confluence of Crystal Creek Tributary No. 7 and Crystal Creek | +240
| Approximately 0.5 miles upstream of State Highway 75 | +307
Decker Branch Flooding Effects and its Tributaries | At the confluence of Mill Creek | +157 | Unincorporated Areas of Montgomery County.
| Approximately 350 feet downstream from FM 1774 County Highway | +208
| Approximately 440 feet upstream from Tree Meadow Road. | +219
Dry Creek Flooding Effects and its Tributaries | At the confluence of Caney Creek and Dry Creek | +93 | City of Conroe, Unincorporated Areas of Montgomery County.
| Just upstream of Massey Road and Dry Creek | +157
Dry Creek No. 2, its Tributaries and Flooding Effects | At the confluence of unnamed intermittent river | +195 | Unincorporated Areas of Montgomery County.
| Approximately 190 feet downstream from Smith-Dobbin Road | +214
Duck Creek Flooding Effects. | At the confluence of Peach Creek and Duck Creek | +151 | Unincorporated Areas of Montgomery County.
| Approximately 4,000 feet upstream of Duff Road | +191
Goodson Branch Flooding Effects and its Tributaries | At the confluence of Decker Branch Tributary No. 1 and Goodson Branch | +188 | Unincorporated Areas of Montgomery County.
| Approximately 176 feet downstream from Goodson Loop | +217
Hightower Branch Flooding Effects | At the confluence of Peach Creek and Hightower Branch | +120 | Unincorporated Areas of Montgomery County.
| Approximately 9,800 feet upstream of the confluence with Peach Creek and Hightower Branch | +135
Jayhawker Creek Flooding Effects | Approximately 4,000 feet upstream of the confluence with Bee Branch and Jayhawker Creek | +128 | Unincorporated Areas of Montgomery County.
| Approximately 7,300 feet upstream of unnamed Railroad | +147
Lake Creek Flood Effects, its Tributaries and unnamed Streams | At the confluence of West Fork of San Jacinto River and Lake Creek | +133 | Unincorporated Areas of Montgomery County.
| At the confluence of Lake Creek Tributary No. 2 and Lake Creek | +152
| At the confluence of Landrum Creek and Lake Creek | +195
| Approximately 5,760 feet upstream of the confluence with Kidhaw Branch and Lake Creek | +260
Lawrence Creek Flooding Effects | At the confluence of Peach Creek and Lawrence Creek | +146 | Unincorporated Areas of Montgomery County.
| Approximately 1,500 feet downstream of Walker Road and Lawrence Creek | +191
Little Caney Creek No. 3 Flooding Effects | Approximately 2,800 feet downstream from Mount Mariah Road | +223 | Unincorporated Areas of Montgomery County.
| Approximately 4,300 feet upstream of Mount Mariah Road. | +228
Little Lake Creek Flooding Effects | At the confluence of Little Lake Creek Tributary No. 6 and Little Lake Creek | +202 | Unincorporated Areas of Montgomery County.
| Just upstream of FM1097 County Highway | +305
Mares Branch Flooding Effects | At the confluence of Peach Creek and Mares Branch | +96 | Unincorporated Areas of Montgomery County.
| Approximately 7,000 feet upstream of the confluence of Peach Creek and Mares Branch | +98
McRae Creek Flooding Effects | At the confluence of Caney Creek and McRae Creek | +184 | Unincorporated Areas of Montgomery County.
| Approximately 9,850 feet upstream of Tanyard Road | +335
Mill Creek Flooding Effects and its Tributaries | At the confluence of Spring Creek and Mill Creek | +156 | Unincorporated Areas of Montgomery County.
| Just upstream of unnamed Railroad | +172
| At the confluence of Tributary No. 2 and Mill Creek | +190
| At the confluence of Mill Creek Tributary No. 6 | +214
Mink Branch Flooding Effects. | At the confluence of Walnut Creek and Mink Branch | +189 | Unincorporated Areas of Montgomery County.
| At the confluence of Arnold Branch and Mink Branch | +203
| Approximately 1,500 feet downstream of Old Hempstead Road | +249
Orton Gully Flooding Effects. | At the confluence of East Fork of San Jacinto River and Orton Gully | +72 | Unincorporated Areas of Montgomery County.
| Approximately 750 feet upstream of Cambridge Boulevard. | +91
Panther Branch Flooding Effects | At the confluence of Spring Creek and Panther Branch | +108 | City of Conroe, Town of Shenandoah, Unincorporated Areas of Montgomery County.
| Just upstream of Magnolia Conroe Road | +181
| Just upstream of FM 1488 County Highway | +191
Peach Creek | Approximately 1,375 feet downstream of Roman Forest Boulevard | +85 | Town of Roman Forest.
| Approximately 425 feet upstream of Roman Forest Boulevard | +86
Peach Creek Flooding Effects and its Tributaries | At the confluence of Caney Creek and Peach Creek | +70 | City of Splendora, Unincorporated Areas of Montgomery County, Village of Patton Village, Village of Woodbranch.
| Approximately 15,000 feet upstream of the confluence with Duck Creek and Peach Creek | +164
| Approximately 17,000 feet upstream of the confluence with Peach Creek Tributary No. 3 and Peach Creek | +340
| Approximately 16,500 feet upstream of the confluence with Peach Creek | +367
Pole Creek Flooding Effects. | At the confluence with Little Lake Creek and Pole Creek | +239 | Unincorporated Areas of Montgomery County.
| Approximately 10,000 feet upstream of Martha Williams Road | +297
Sand Branch No. 2 Flooding Effects | At the confluence with Little Lake Creek and Sand Branch No. 2 | +243 | Unincorporated Areas of Montgomery County.
| Approximately 18,000 feet upstream of the confluence with Little Lake Creek and Sand Branch No. 2 | +314
Silverdale Creek Flooding Effects | At the confluence of West Fork of San Jacinto River and Silverdale Creek | +126 | City of Conroe, Unincorporated Areas of Montgomery County.
| Just upstream of Wagers Street | +187
Spring Branch Flooding Effects | At the confluence of Carney Creek and Spring Branch | +95 | Unincorporated Areas of Montgomery County.
| Approximately 2,600 feet upstream of East Old Highway 105 Road | +176
Spring Branch No. 2 Flooding Effects | Approximately 1,500 feet upstream from the confluence with Landrum Creek and Spring Branch No. 2 | +202 | Unincorporated Areas of Montgomery County.
| Just upstream of Spring Branch Road | +264
Spring Creek Flooding Effects into Sam Bell Gully Diversion Channel | At the confluence of Spring Creek and Sam Bell Gully | +100 | City of Oak Ridge North, Unincorporated Areas of Montgomery County.
| At the confluence of Sam Bell Gully Tributary Diversion Channel and Spring Creek | +117
| Approximately 1,150 feet upstream from Woodson Road | +136
Spring Creek, its Tributaries, intermittent Streams and Flooding Effects for areas north of Spring Creek | At the confluence of West Fork of San Jacinto River and Spring Creek | +67 | City of Houston, Unincorporated Areas of Montgomery County.
| At the confluence of Sam Bell Gully Diversion Channel and Spring Creek | +100
| At the confluence of Mill Creek and Spring Creek | +156
| At the confluence of Walnut Creek and Spring Creek | +169
Stewart Creek Flooding Effects | Approximately 330 feet upstream of SH 336 | +148 | City of Conroe, City of Panorama Village, Unincorporated Areas of Montgomery County.
| At the confluence of Stewarts Creek Tributary No. 1 and Stewarts Creek | +208
| Approximately 4,000 feet upstream of FM 830 County Highway | +292
Sulphur Branch Flooding Effects | At the confluence of Walnut Creek and Sulphur Branch | +178 | City of Stagecoach, Town of Magnolia, Unincorporated Areas of Montgomery County.
| Just upstream of Greek Oak Road | +218
| Approximately 75 feet downstream from Magnolia Conroe Street | +273
Threemile Creek Flooding Effects | At the confluence of Brushy Creek and Threemile Creek | +208 | Unincorporated Areas of Montgomery County.
| Approximately 4,300 feet upstream from the confluence of Brushy Creek and Threemile Creek | +211
Walnut Creek Flooding Effects | At the confluence of Spring Creek and Walnut Creek | +168 | City of Stagecoach, Unincorporated Areas of Montgomery County.
| At the confluence of Mink Branch and Walnut Creek | +189
| At the confluence of Log Gully and Walnut Creek | +195
| Approximately 3,200 feet upstream from unnamed Tributary | +223
West Fork of Spring Branch Flooding Effects | At the confluence of Spring Branch and West Fork of Spring Branch | +129 | Unincorporated Areas of Montgomery County.
| Approximately 3,300 feet upstream of Pine Road | +191
White Oak Creek Flooding Effects | Approximately 20,000 feet downstream of unnamed Railroad | +67 | Unincorporated Areas of Montgomery County.
| Approximately 5,100 feet downstream of unnamed Railroad | +80
Woodsons Gully Flooding Effects | At the confluence of West Fork of San Jancinto River and Woodsons Gully | +78 | Unincorporated Areas of Montgomery County.
| Approximately 15,100 feet upstream of Riley Fuzzel Road. | +111
* National Geodetic Vertical Datum.
# Depth in feet above ground.
+ North American Vertical Datum.
‸ Mean Sea Level, rounded to the nearest 0.1 meter. | ADDRESSES
City of Conroe
Maps are available for inspection at 300 West Davis, Conroe, TX 77301.
City of Cut 'N Shoot
Maps are available for inspection at 14391 East Highway 105, Cut 'N Shoot, TX 77303.
City of Houston
Maps are available for inspection at 611 Walker Road, Houston, TX 77002.
City of Oak Ridge North
Maps are available for inspection at 27326 Robinson Road, Suite 115, Conroe, TX 77385.
City of Panorama Village
Maps are available for inspection at 98 Hiwon Drive, Panorama Village, TX 77304.
City of Splendora
Maps are available for inspection at 16940 Main Street, Splendora, TX 77372.
City of Stagecoach
Maps are available for inspection at 16022 Westward Ho, Mongolia Texas, TX 77355.
City of Willis
Maps are available for inspection at 200 North Bell Street, Willis, TX 77378.
Town of Magnolia
Maps are available for inspection at 510 Magnolia Boulevard, Magnolia, TX 77356.
Town of Roman Forest
Maps are available for inspection at 2430 Roman Forest Boulevard, New Caney, TX 77357.
Town of Shenandoah
Maps are available for inspection at 29955 I-45 North, Shenandoah, TX 77381.
Unincorporated Areas of Montgomery County
Maps are available for inspection at 301 North Thompson, Suite 210, Conroe, TX 77301.
Village of Patton Village
Maps are available for inspection at 16940 Main Street, Splendora, TX 77372.
Village of Woodbranch
Maps are available for inspection at 58A Woodbranch Drive, New Caney, TX 77357.

(Catalog of Federal Domestic Assistance No. 97.022, “Flood Insurance.”)

Dated: July 11, 2014.
Roy E. Wright,
Deputy Associate Administrator for Mitigation, Department of Homeland Security, Federal Emergency Management Agency.

[FR Doc. 2014-18291 Filed 7-31-14; 8:45 am]

BILLING CODE 9110-12-P